FEDERAL COMMUNICATIONS COMMISSION

47 CFR Parts 15 and 18

[ET Docket 98-80; FCC 02-157]

Conducted Emission Limits

AGENCY: Federal Communications Commission.

ACTION: Final rule.

SUMMARY: This document revises the Commission's rules for Radio Frequency (RF) devices to modify the limits on the amount of RF energy that is permitted to be conducted onto alternating current (AC) power lines. These limits protect against interference to licensed radio services operating below 30 MHz. The rule changes also harmonize our domestic requirements with the international standards developed by the International Electrotechnical Commission, International Special Committee on Radio Interference. The Commission believes that such harmonization will benefit consumers and manufacturers by providing better interference protection to licensed radio services as well as promoting a global marketplace for RF devices.

DATES: Effective August 9, 2002.

FOR FURTHER INFORMATION CONTACT: Anh Wride, Office of Engineering and Technology, (202) 418-0577, TTY (202) 418-2989, e-mail: awride@fcc.gov.

SUPPLEMENTARY INFORMATION: This is a summary of the Commission's Report and Order, ET Docket 98-80, FCC 02-157, adopted May 23, 2002 and released May 30, 2002. The full text of this document is available for inspection and copying during regular business hours in the FCC Reference Center (Room CY-A257), 445 12th Street, SW, Washington, DC 20554. It is also available on the Commission's internet site at www.fcc.gov. The complete text of this document also may be purchased from the Commission's duplication contractor Qualex International, (202) 863-2893 voice, (202) 863-2898 Fax, qualexint@aol.com email, Portals II, 445 12th Street, SW, Room CY-B402, Washington, DC 20554.

Summary of Report and Order

1. The Commission is amending parts 15 and 18 of the rules for radio frequency (RF) devices to modify the limits on the amount of RF energy that is permitted to be conducted onto alternating current (AC) power lines. These limits protect against interference to licensed radio services operating below 30 MHz. The rule changes adopted herein harmonize our domestic requirements with the international standards developed by the International Electrotechnical Commission (IEC), International Special Committee on Radio Interference (CISPR). We believe that such harmonization will benefit consumers and manufacturers by providing better interference protection to licensed radio services as well as promoting a global marketplace for RF devices

2. In the Notice of Proposed Rule Making (NPRM), 64 FR 62159, November 16, 1999, the Commission proposed several changes to its regulations for line conducted emissions from parts 15 and 18 devices. It proposed to amend the conducted emission limits for such equipment to make them generally consistent with the international standards specified in IEC/CISPR Publications 11 and 22. The differences between the limits in the rules and the CISPR limits are discussed, in the NPRM. The CISPR limits, including the limits on conducted emissions below 450 kHz, would be applied to all part 15 devices, to all induction cooking ranges and ultrasonic equipment operating under part 18, and to all consumer part 18 devices, including microwave ovens. The Commission proposed to provide a transition period of one year for all new part 15 and 18 devices subsequently authorized under a grant of Certification, a Declaration of Conformity, or Verification. It also proposed to require all products, imported or manufactured three years after the effective date of the new rules, to comply with these standards.

3. In addition to the changes to the conducted emission limits, the Commission proposed an alternative measurement procedure for part 15 intentional radiators operating below 30 MHz, e.g., carrier current systems (CCS), which would permit a demonstration of compliance with applicable radiated emission limits instead of conducted limits. The Commission also proposed to clarify § 15.109(e) of its rules to require measurements of radiated emissions below 30 MHz for part 15 unintentional radiators only when the length of the connecting cable carrying the RF signal is either at least one-fourth of the wavelength of the center frequency of the signal, or is of unknown length. Comments were also requested on whether voltage and current limits on RF signals placed on the AC power line could be employed by CCS devices as an optional method of demonstrating compliance with the radiated limits outside of the AM broadcast band.

4. The Report and Order adopted changes to the rules for power line conducted emissions to make them more effective in controlling interference to communications services and to reduce the burden of these regulations. Specifically, we are amending the conducted emission limits to make them consistent with international CISPR standards. We are also adopting conducted emission limits for part 18 consumer products, such as microwave ovens, that are currently subject only to radiated emission limits. These limits are consistent with the requirements that already exist for certain types of ISM consumer products, such as ultrasonic denture and jewelry cleaners. Finally, we are establishing transition provisions for implementing the new CISPR limits. Harmonizing our rules with international standards will allow manufacturers to produce products for distribution in several markets without any modification, thus reducing costs. This harmonization will be particularly beneficial to small business entities that have limited resources to maintain separate product lines in order to ensure compliance with region or country-specific requirements. Moreover, this will enhance the value of Mutual Recognition Agreements (MRA) for U.S. manufacturers, thereby promoting the growth and international expansion of U.S. industries.

5. The proposal for an alternative measurement procedure for intentional radiators operating on frequencies below 30 MHz and the request for comments to improve the existing testing methodologies and requirements for intentional RF signals transmitted on power lines drew a number of observations and suggestions. We note that there is substantial development under way of new broadband delivery systems that use power line communication technologies. We also note that the IEC/CISPR I committee has established a Task Group to develop limits and methods of measurements for these new technologies. Therefore, in order to allow for a better informed and more complete decision, we are deferring to a further proceeding the consideration of new limits and measurement procedures for CCS devices. We intend to monitor these activities to ensure that future proposed test procedures and limits are harmonized with international standards and would not create an additional testing burden on manufacturers of such equipment. Pending the adoption of new rules based on the international work, our existing requirements for carrier current systems continue to apply to all such devices.

Harmonization with IEC/CISPR Conducted Emission Limits

6. The Commission observed that considerable work has been done to develop conducted emission standards within the CISPR. Notably, CISPR has developed standards for information technology equipment under CISPR Publication 22, and for industrial, scientific and medical (ISM) equipment under CISPR Publication 11. The Commission also noted that there appears to be growing support by both governments and industry for the harmonization of emission standards internationally to promote trade and competition. Harmonized standards can improve economies of scale and thereby reduce costs, to the benefit of consumers. Harmonized standards also tend to reduce testing costs for products marketed internationally.

Harmonization with CISPR Publication 22 Limits

7. The Commission therefore proposed to apply the limits of CISPR Publication 22 to all Part 15 devices that are currently subject to line conducted emission limits. The Commission noted that the existing part 15 limits are based on quasi-peak measurements, but allow a correction for broadband emissions in order to take into account averaging factors. On the other hand, CISPR Publication 22 specifies separate limits for quasi-peak and average measurements. Adjustments for broadband emissions have already been incorporated into the CISPR limits; therefore, the CISPR quasi-peak limit values are less restrictive than the limits currently in the rules. After taking these factors into account, the CISPR emission limits are slightly more stringent than the current rules below 5 MHz and are approximately equivalent to the current rules above 5 MHz. The Commission noted that, for many years, part 15 has provided the option of complying with either the limits in the rules or the CISPR 22 limits. Due to this practice, many manufacturers' products already comply with the CISPR limits. Therefore, the use of a single set of limits would simplify the rules and promote harmonization, without generally causing an undue burden on manufacturers.

8. The Commission continues to believe that the harmonization of our conducted emission limits in part 15 with the limits in CISPR 22 will foster trade and facilitate the growth of U.S. businesses by reducing costs for manufacturers and consumers. The Commission is adopting the CISPR 22 conducted emission limits for all part 15 equipment that are currently subject to the conducted emissions requirements. See 47 CFR 15.107 and 15.207.

9. We also note that the international CISPR line conducted emission standards include separate limits for equipment used in business/industrial (Class A) and residential (Class B) environments. Such an approach is appropriate, because it takes into account the different characteristics affecting interference in each environment, such as the wider separation distances between equipment which occur in business and commercial environments. We believe that the international standards strike a reasonable balance between the need to establish standards to control interference to broadcasting services in the under 30 MHz region of the spectrum, and the need to avoid placing unnecessary constraints on RF devices and ISM equipment. Therefore, we are retaining the definitions of Class A and Class B digital devices, currently specified in the Commission's rules, as necessary in the public interest.

10. In the NPRM, we remarked that the rules exempt incidental radiators and certain digital equipment from the line conducted emission limits. In particular, exemption from specific emission limits is provided for incidental radiators such as electric motors, hair dryers, washing machines, etc.; digital devices used exclusively as an electronic control of power system used by a public utility or an industrial plant; digital devices used exclusively as industrial, commercial, or medical test equipment; digital devices used in appliances; and specialized medical digital devices. Given the large numbers of incidental radiators that would be affected and the overall lack of interference complaints from such devices, mandatory emission limits are not warranted for these devices. We further find no information or evidence in the record that warrants removing or modifying the existing exemptions at this time. Accordingly, we will retain the exemptions in 47 CFR 15.103, as necessary in the public interest.

11. Harmonization of our rules with the CISPR 22 rules will extend the conducted emission limits from the existing lowest frequency of 450 kHz down to 150 kHz. We find that extending the limits to frequencies below 450 kHz is warranted to protect existing, new, and expanded future uses for this region of the spectrum. While there are several types of radio systems operating below 450 kHz, we are particularly concerned about the potential for harmful interference to licensed radio services that are employed for applications involving safety of life and property, such as the Differential Global Positioning System (DGPS). Several governmental entities, such as the Department of Transportation (DOT), US Coast Guard (USCG) and the Federal Railroad Administration (FRA), are using or planning to deploy navigational systems using DGPS with frequencies between 285 and 325 kHz. Therefore, the Commission believes that the adoption of conducted requirements below 450 kHz will not only provide the benefits of international harmonization, but will protect radio services used by systems providing navigation to safety-of-life transportation operations at sea, in the air, and on land.

Harmonization with CISPR Publication 11 Limits

12. Our existing rules for conducted emission limits for part 18 cover the frequency range from 10 kHz to 30 MHz. See 47 CFR 18.307. The CISPR Publication 11 specifies conducted emission limits from 9 kHz to 30 MHz. In the NPRM, we proposed to harmonize the limits in Part 18 with those specified in CISPR 11. The current limits in part 18 are based on average measurements, except those for RF lighting equipment. CISPR 11 specifies separate limits for quasi-peak and average measurements. The CISPR 11 limit values are somewhat comparable to the FCC limits over the frequency range from 150 kHz to 30 MHz. The Commission indicated that, given the international nature of the marketplace, the use of a single set of limits would simplify the rules and promote harmonization, without causing undue burden to manufacturers.

13. The harmonization of our conducted emission limits in part 18 with the limits in CISPR 11 will foster trade, facilitate growth and international expansion of U.S. businesses and reduce costs, to the benefit of manufacturers and consumers. The Commission believes that the adoption of conducted emission limits for all consumer ISM equipment, including microwave ovens, will promote consistency and uniformity with regard to the treatment of these products. We note that the adoption of the CISPR rules in this proceeding is not based on a response to interference issues, but rather, to promote a global market and harmonization of requirements, which will benefit manufacturers and consumers. Accordingly, we are adopting the conducted emission limits in CISPR 11 for part 18 ultrasonic equipment and induction cooking ranges, and for part 18 consumer devices.

14. We further note that CISPR 11 specifies the use of a 50 μH/50 Ohm LISN, which is a Line Impedance Stabilization Network (LISN), an artificial AC power line network that provides a specified load impedance in a given frequency range. It is used to isolate the equipment from the AC supply and to facilitate measurements, for part 18 ultrasonic and induction cooking equipment rather than the 5 μH/50 Ohm LISN previous specified in the rules. CISPR 11 refers to CISPR 16:1999, Figure 7a, for the impedance curve of the LISN to be used in carrying out the measurements against the specified limits. Accordingly, we are modifying the rules to require a 50 μH/50 Ohm LISN with this impedance curve to be used in determining compliance with part 18 conducted emission limits for ultrasonic and induction cooking equipment.

Transition Provisions

15. In the NPRM, the Commission proposed to require that all newly authorized part 15 and 18 devices be subject to the new line conducted regulations effective one year from the date of publication of the Report and Order in the Federal Register. It also proposed that these new regulations would apply to all part 15 and 18 devices that are imported or manufactured on or after three years from the date of publication of the Report and Order in the Federal Register, regardless of when the products were initially authorized. The Commission expressed its belief that most affected products would be redesigned within this three-year time frame in the course of normal product cycles and that compliance with this proposal therefore would not cause an unreasonable burden on industry.

16. While it appears that complying with the new line conducted emission rules will not pose a significant burden on many, if not most, manufacturers, given that they have already modified their products to allow them to trade in Canada and Europe, there are cases where the new rules will have an impact. Inasmuch as there is no evidence of interference problems from part 15 and part 18 devices that comply with the existing line conducted emission limits, we also believe that extending the transition period for a modest amount of time would not pose serious risks of new interference. Therefore, the Commission will provide an additional one year of transition period for new product models beyond that proposed in the NPRM. Accordingly, we are adopting transition provisions for compliance of part 15 and part 18 devices with the new conducted emission limits as follows: the rules will apply to all new products authorized under parts 15 and 18 of the rules on or after two years from the date of publication of this Report and Order in the Federal Register and will apply to all existing products authorized under parts 15 and 18 of the rules that are manufactured or imported on or after three years from that date.

Final Regulatory Flexibility Analysis

17. As required by the Regulatory Flexibility Act of 1980, as amended (RFA),¹ an Initial Regulatory Flexibility Analysis (IRFA) was incorporated in the Notice of Proposed Rule Making (NPRM), 1998 Biennial Regulatory Review—Conducted Emissions Limits Below 30 MHz for Equipment Regulated under Parts 15 and 18 of the Commission's Rules.² The Commission sought written public comment on the proposals in the NPRM, including comments on the IRFA. The Final Regulatory Flexibility Analysis (FRFA) in this Report and Order conforms to the RFA.³

¹ See 5 U.S.C. 603. The RFA, see 5 U.S.C. 601-612, has been amended by the Small Business Regulatory Enforcement Fairness Act of 1996 (SBREFA), Public Law 104-121, Title II, 110 Stat. 857 (1996).

² See 1998 Biennial Regulatory Review—Conducted Emission Limits Below 30 MHz for Equipment Regulated under Parts 15 and 18 of the Commission's Rules, ET Docket No. 98-80, Notice of Proposed Rule Making, 14 FCC Rcd 18180 (1999) at 16.

³ See 5 U.S.C. 604.

A. Need for, and Objectives of, the Report and Order

18. By this action, the Commission amends parts 15 and 18 of the rules for radio frequency (RF) devices regarding the amount of RF energy that is permitted to be conducted onto the alternating current (AC) power lines. The purpose of the present limits is to protect against interference to radio services operating below 30 MHz. By the rules adopted herein, these limits are harmonized by incorporating the limits of the international standards developed by the International Electrotechnical Commission (IEC), International Special Committee on Radio Interference (CISPR) into the rules.⁴ The Commission anticipates that such harmonization will provide better interference protection to licensed radio services as well as promoting a global marketplace for RF devices, thereby reducing costs for manufacturers and consumers. Most manufacturers are already performing testing to the requirements of the international standards on products sold in the U.S. that are also marketed in regions that have adopted the CISPR standards. Therefore, testing to these limits does not represent a significant burden. Harmonization of our rules with the international standards will allow the same product to be manufactured and marketed without modifications in several countries, thereby enabling economies of scale, which would reduce costs. The comments overwhelmingly support our harmonization action.

⁴ The International Special Committee on Radio Interference (CISPR) was established in 1934 by a group of international organizations to address radio interference. CISPR is a non-governmental group composed of National Committees of the International Electrotechnical Commission (IEC), as well as numerous international organizations. The IEC is the international standards and conformity assessment body for all fields of electrotechnology.

B. Summary of Significant Issues Raised by Public Comments In Response to the IRFA

19. There were comments on the NPRM, but there were no specific comments addressing small business issues in response to the IRFA.

C. Description and Estimate of the Number of Small Entities to Which Rules Will Apply

20. The RFA directs agencies to provide a description of and, where feasible, an estimate of the number of small entities that may be affected by the proposed rules, herein adopted.⁵ The RFA generally defines the term “small entity” as having the same meaning as the terms “small business,” “small organization,” and “small governmental jurisdiction.” ⁶ In addition, the term “small business” has the same meaning as the term “small business concern” under section 3 of the Small Business Act.⁷ A small business concern is one which: (1) Is independently owned and operated; (2) is not dominant in its field of operation; and (3) satisfies any additional criteria established by the SBA.⁸

⁵ See 5 U.S.C. 603(b)(3) and 604(a)(3).

⁶ See 5 U.S.C. 601(6).

⁷ See 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁸ See 15 U.S.C. 632 (1996).

21. The Commission has not developed a definition of small entities applicable to Radio Frequency Equipment Manufacturers (RF Manufacturers). Therefore, the applicable definition of small entity is the definition under the SBA rules applicable to manufacturers of “Radio and Television Broadcasting and Communications Equipment.” According to the SBA's regulation, an RF manufacturer must have 750 or fewer employees in order to qualify as a small business.⁹ Census Bureau data indicates that there are 858 companies in the United States that manufacture radio and television broadcasting and communications equipment, and that 778 of these firms have fewer than 750 employees and would be classified as small entities.¹⁰ We believe that many of the companies that manufacture RF equipment may qualify as small entities.

⁹ See 13 CFR 121.201, Standard Industrial Classification (SIC) Code 3663. See also the North American Industry Classification System Codes (NAICS) Code 334220.

¹⁰ See U.S. Department of Commerce, 1992 Census of Transportation, Communications and Utilities (issued May 1995), SIC category 3663. See also the North American Industry Classification System Codes (NAICS) Code 334220.

D. Description of Projected Reporting, Recordkeeping and Other Compliance Requirements

22. Although a large number of Part 15 and Part 18 radio frequency devices are already required to be authorized under the Commission's Certification, Declaration of Conformity, or Verification procedures as a prerequisite to marketing and importation, the adopted rules add a slight amount of new testing and reporting requirements, as explained further:

(a) Microwave ovens are already subject to radiated emission limits in the existing rules.¹¹ The adopted rules would require microwave ovens and consumer ISM equipment (other than RF lights, induction ranges and ultrasonic equipment) to comply with conducted emission limits.¹²

¹¹ See 47 CFR 18.305.

¹² See 47 CFR 18.307. See also, the discussion in ¶ 22 of the R&O.

(b) Induction ranges and ultrasonic equipment are already subject to part 18 conducted emission limits, but with the adopted rules, the low frequency range now starts at 9 kHz instead of the previous 10 kHz.¹³

¹³ See discussion in ¶ 23 of the R&O.

(c) Under the adopted rules, measurements for conducted emissions must be made with instrumentation containing both a quasi-peak and an average reading detector.¹⁴

¹⁴ See discussion in ¶¶ 12 and 18 of the R&O.

(d) Under the adopted rules, conducted emissions from part 15 equipment must be measured down to 150 kHz instead of the previous 450 kHz, and measurements must be made with instrumentation containing both a quasi-peak and an average reading detector as well.¹⁵

¹⁵ See discussion in ¶¶ 20-21 of the R&O.

23. This slightly increased amount of testing is not a significant burden and will be offset by economies of scale, because harmonization of requirements will allow the same product to be manufactured and marketed without modifications in several countries, thus reducing costs. Furthermore, most part 15 equipment manufacturers already have the option to either comply with CISPR 22 limits or the FCC limits. The adoption of a single set of limits would simplify compliance with the requirements. The harmonization of our rules with international standards will reduce costs for all manufacturers, but it is particularly beneficial to small business entities that will not have to continue to maintain separate product lines in order to ensure their compliance with region-or country-specific regulatory requirements.

E. Steps Taken To Minimize Significant Economic Impact on Small Entities, and Significant Alternatives Considered

24. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.¹⁶

¹⁶ See 5 U.S.C. 603(c)(1)-(c)(4).

25. The Commission is modifying its rules to harmonize with the international standards developed by the IEC/CISPR. Harmonized requirements improve economies of scale by allowing the same product design to be manufactured without modifications for sale in various countries and thereby reduce costs for products marketed internationally by small businesses. Harmonization of mandatory standards will further benefit small business entities by allowing them to make better use of human and financial resources currently dedicated to maintaining regulatory compliance for products intended for export to separate countries.

26. The Commission originally proposed, in the NPRM, a transition period under which the regulations adopted in this proceeding would become effective, for all entities subject to the adopted rules, one year from the date of publication of a Report and Order in the Federal Register, for all part 15 and 18 devices subsequently authorized under a grant of Certification, a Declaration of Conformity, or Verification. However, to reduce the burden on small entities within the field of entities subject to the rules, we are adopting a longer transition period, up to two years, for new products, and a transition period of three years for all existing products that continue to be manufactured or imported.¹⁷

¹⁷ See discussion in ¶¶ 24-25 of the R&O.

Report to Congress

27. The Commission will send a copy of the Report and Order, including this FRFA, in a report to be sent to Congress pursuant to the Congressional Review Act.¹⁸ In addition, the Commission will send a copy of the Report and Order, including this FRFA, to the Chief Counsel for Advocacy of the Small Business Administration.

¹⁸ See 5 U.S.C. 801(a)(1)(A).

28. Pursuant to Sections 4(i), 301, 302, 303(e), 303(f), 303(r) of the Communications Act of 1934, as amended, 47 U.S.C. Sections 154(i), 301, 302, 303(e), 303(f), and 303(r), parts 15 and 18 of the Commission's Rules and Regulations ARE AMENDED.

29. The Commission's Consumer & Governmental Affairs Bureau, Reference Information Center, SHALL SEND a copy of this Report and Order, including the Final Regulatory Flexibility Analysis, to the Chief Counsel for Advocacy of the Small Business Administration.

List of Subjects

47 CFR Part 15

Communications equipment, Radio.

47 CFR Part 18

Household appliances, Radio, Scientific equipment.

Federal Communications Commission.
Marlene H. Dortch,
Secretary.

Rule Changes

For the reasons set forth in the preamble, the Federal Communications Commission amends 47 CFR parts 15 and 18 as follows:

PART 15—RADIO FREQUENCY DEVICES

1. The authority citation for Part 15 continues to read as follows:

Authority: 47 U.S.C. 154, 302, 303, 304, 307, 366, and 544A.

2. Section 15.37 is amended by adding paragraph (j), to read as follows:

§ 15.37 Transition provisions for compliance with the rules.

* * * * *

(j) All radio frequency devices that are authorized under the certification, verification or declaration of conformity procedures on or after July 12, 2004 shall comply with the conducted limits specified in § 15.107 or § 15.207 as appropriate. All radio frequency devices that are manufactured or imported on or after July 11, 2005 shall comply with the conducted limits specified in § 15.107 or § 15.207, as appropriate. Equipment authorized, imported or manufactured prior to these dates shall comply with the conducted limits specified in § 15.107 or § 15.207, as appropriate, or with the conducted limits that were in effect immediately prior to September 9, 2002.

3. Section 15.107 is amended by revising paragraphs (a), (b), and (c)(2), by removing paragraphs (d) and (e) and by redesignating paragraph (f) as paragraph (d), to read as follows:

§ 15.107 Conducted limits.

(a) Except for Class A digital devices, for equipment that is designed to be connected to the public utility (AC) power line, the radio frequency voltage that is conducted back onto the AC power line on any frequency or frequencies within the band 150 kHz to 30 MHz shall not exceed the limits in the following table, as measured using a 50 μH/50 ohms line impedance stabilization network (LISN). Compliance with the provisions of this paragraph shall be based on the measurement of the radio frequency voltage between each power line and ground at the power terminal. The lower limit applies at the band edges.

Frequency of emission (MHz) | Conducted limit (dBμV): Quasi-peak | Conducted limit (dBμV): Average
0.15-0.5 | 66 to 56* | 56 to 46*
0.5-5 | 56 | 46
5-30 | 60 | 50
*Decreases with the logarithm of the frequency.

(b) For a Class A digital device that is designed to be connected to the public utility (AC) power line, the radio frequency voltage that is conducted back onto the AC power line on any frequency or frequencies within the band 150 kHz to 30 MHz shall not exceed the limits in the following table, as measured using a 50 μH/50 ohms LISN. Compliance with the provisions of this paragraph shall be based on the measurement of the radio frequency voltage between each power line and ground at the power terminal. The lower limit applies at the boundary between the frequency ranges.

Frequency of emission (MHz) | Conducted limit (dBμV): Quasi-peak | Conducted limit (dBμV): Average
0.15-0.5 | 79 | 66
0.5-30 | 73 | 60

(c) * * *

(2) For all other carrier current systems: 1000 μV within the frequency band 535-1705 kHz, as measured using a 50 μH/50 ohms LISN.

* * * * *

4. Section 15.207 is amended by revising paragraph (a), removing paragraph (b), redesignating paragraphs (c) and (d) as (b) and (c), respectively, and by revising newly designated paragraph (b)(2), to read as follows:

§ 15.207 Conducted limits.

(a) Except as shown in paragraphs (b) and (c) of this section, for an intentional radiator that is designed to be connected to the public utility (AC) power line, the radio frequency voltage that is conducted back onto the AC power line on any frequency or frequencies, within the band 150 kHz to 30 MHz, shall not exceed the limits in the following table, as measured using a 50 μH/50 ohms line impedance stabilization network (LISN). Compliance with the provisions of this paragraph shall be based on the measurement of the radio frequency voltage between each power line and ground at the power terminal. The lower limit applies at the boundary between the frequency ranges.

Frequency of emission (MHz) | Conducted limit (dBμV): Quasi-peak | Conducted limit (dBμV): Average
0.15-0.5 | 66 to 56* | 56 to 46*
0.5-5 | 56 | 46
5-30 | 60 | 50
*Decreases with the logarithm of the frequency.

(b) * * *

(2) For all other carrier current systems: 1000 μV within the frequency band 535-1705 kHz, as measured using a 50 μH/50 ohms LISN.

* * * * *

PART 18—INDUSTRIAL, SCIENTIFIC, AND MEDICAL EQUIPMENT

5. The authority citation for Part 18 continues to read as follows:

Authority: 47 U.S.C. 4, 301, 302, 303, 304, 307.

6. Section 18.123 is added to Subpart A to read as follows:

§ 18.123 Transition provisions for compliance with the rules.

Consumer ISM devices, induction cooking ranges and ultrasonic equipment that are authorized under the certification, verification or declaration of conformity procedures on or after July 12, 2004 shall comply with the conducted limits specified in § 18.307. All such devices that are manufactured or imported on or after July 11, 2005 shall comply with the conducted limits specified in § 18.307. Equipment authorized, imported or manufactured prior to these dates shall comply with the conducted limits specified in § 18.307 or with the conducted limits that were in effect immediately prior to September 9, 2002.

7. Section 18.307 is amended by revising the introductory paragraph, paragraphs (a) and (b), removing the Notes at the end of the section and adding paragraphs (d) through (g) to read as follows:

§ 18.307 Conducted limits.

For the following equipment, when designed to be connected to the public utility (AC) power line the radio frequency voltage that is conducted back onto the AC power line on any frequency or frequencies shall not exceed the limits in the following tables. Compliance with the provisions of this paragraph shall be based on the measurement of the radio frequency voltage between each power line and ground at the power terminal using a 50 μH/50 ohms line impedance stabilization network (LISN).

(a) All Induction cooking ranges and ultrasonic equipment:

Frequency of emission (MHz) | Conducted limit (dBμV): Quasi-peak | Conducted limit (dBμV): Average
0.009-0.05 | 110 | —
0.05-0.15 | 90-80 * | —
0.15-0.5 | 66 to 56 * | 56 to 46 *
0.5-5 | 56 | 46
5-30 | 60 | 50
* Decreases with the logarithm of the frequency.

(b) All other part 18 consumer devices:

Frequency of emission (MHz) | Conducted limit (dBμV): Quasi-peak | Conducted limit (dBμV): Average
0.15-0.5 | 66 to 56 * | 56 to 46 *
0.5-5 | 56 | 46
5-30 | 60 | 50
* Decreases with the logarithm of the frequency.

* * * * *

(d) If testing with a quasi-peak detector demonstrates that the equipment complies with the average limits specified in the appropriate table in this section, additional testing to demonstrate compliance using an average detector is not required.

(e) These conduction limits shall apply only outside of the frequency bands specified in § 18.301.

(f) For ultrasonic equipment, compliance with the conducted limits shall preclude the need to show compliance with the field strength limits below 30 MHz unless requested by the Commission.

(g) The tighter limits shall apply at the boundary between two frequency ranges.

[FR Doc. 02-17264 Filed 7-9-02; 8:45 am]

BILLING CODE 6712-01-P